DEPARTMENT OF ENERGY

Federal Energy Regulatory Commission

[Docket No. EL19-40-000]

Florida Municipal Power Agency v. Duke Energy Florida, LLC; Notice of Complaint

Take notice that on January 30, 2019, pursuant to sections 206, 306 and 309 of the Federal Power Act, 16 U.S.C. 824e, 825e and 825h and Rule 206 of the Federal Energy Regulatory Commission's (Commission) Rules of Practice and Procedure, 18 CFR 385.206, Florida Municipal Power Agency (FMPA or Complainant) filed a formal complaint against Duke Energy Florida, LLC (Respondent) alleging that the Respondent violated its Open Access Transmission Tariff by rejecting requests for transmission delivery service submitted by FMPA and its members for deliveries from the Poinsett Solar Facility, all as more fully explained in the complaint.

Florida Municipal Power Agency certifies that a copy of the complaint was served on Duke Energy Florida, LLC's corporate representative designated on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5 p.m. Eastern Time on February 19, 2019.

Issued: February 1, 2019.
Kimberly D. Bose,
Secretary.

[FR Doc. 2019-01655 Filed 2-7-19; 8:45 am]

BILLING CODE 6717-01-P